ENVIRONMENTAL PROTECTION AGENCY

[EPA-HQ-OPP-2017-0751; FRL-10274-01-OCSPP]

Pesticide Registration Review; Decisions and Case Closures for Several Pesticides; Notice of Availability

AGENCY: Environmental Protection Agency (EPA).

ACTION: Notice.

SUMMARY: This notice announces the availability of EPA's interim or final registration review decisions for the following chemicals: pasteuria species, pseudomonas syringae; and trimethylamine and trimethylamine hydrochloride. In addition, this notice announces the closure of the registration review case for cryolite, furfural, mefluidide, and sabadilla alkaloids because the last U.S. registrations for these pesticides have been canceled.

ADDRESSES: The docket for this action, identified under docket identification (ID) number EPA-HQ-OPP-2017-0751, is available online at https://www.regulations.gov. Additional instructions on visiting the docket, along with more information about dockets generally, is available at https://www.epa.gov/dockets.

FOR FURTHER INFORMATION CONTACT:

For pesticide specific information, contact: The Chemical Review Manager for the pesticide of interest identified in Table 1 in Unit IV.

For general information on the registration review program, contact: Melanie Biscoe, Pesticide Re-evaluation Division (7508P), Office of Pesticide Programs, Environmental Protection Agency, 1200 Pennsylvania Ave. NW, Washington, DC 20460-0001; telephone number: 202-566-0701; email address: biscoe.melanie@epa.gov.

SUPPLEMENTARY INFORMATION:

I. General Information

Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT: For pesticide specific information, contact: The Chemical Review Manager for the pesticide of interest identified in Table 1 in Unit IV.

II. Background

Registration review is EPA's periodic review of pesticide registrations to ensure that each pesticide continues to satisfy the statutory standard for registration, that is, the pesticide can perform its intended function without unreasonable adverse effects on human health or the environment. As part of the registration review process, the Agency has completed interim or final decisions for all pesticides listed in Table 1 in Unit IV. Through this program, EPA is ensuring that each pesticide's registration is based on current scientific and other knowledge, including its effects on human health and the environment.

III. Authority

EPA is conducting its registration review of the chemicals listed in Table 1 in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's interim or final registration review decisions for the pesticides shown in Table 1. The registration review decisions are supported by rationales included in the docket established for each chemical.

Table 1—Registration Review Interim and Final Decisions Being Issued
Registration review case name and No. | Docket ID No. | Chemical review manager and contact information
Pasteuria; species Case Numbers: 6526, 6527, 6535 | EPA-HQ-OPP-2021-0614 | Andrew Queen queen.andrew@epa.gov, (202) 566-1539.
Pseudomonas syringae; Case Number 6007 | EPA-HQ-OPP-2022-0088 | Bibiana Oe, oe.bibiana@epa.gov, (202) 566-1538.
Trimethylamine and Trimethylamine Hydrochloride; Case No. 6304 | EPA-HQ-OPP-2021-0852 | Monica Thapa, thapa.monica@epa.gov, (202) 566-1543.

The proposed decisions and proposed interim registration review decisions for the chemicals in the table above were posted to the docket and the public was invited to submit any comments or new information. EPA addressed the comments or information received during the 60-day comment period for the proposed interim decisions in the discussion for each pesticide listed in the table. Comments from the 60-day comment period that were received may or may not have affected the Agency's interim or final decision. Pursuant to 40 CFR 155.58(c), the registration review case docket for the chemicals listed in the Table will remain open until all actions required in the decision have been completed.

This document also announces the closure of the registration review case for cryolite (Case Number 0087, Docket ID Number EPA-HQ-OPP-2011-0173), furfural (Case Number 7050, Docket ID Number EPA-HQ-OPP-2014-0764), mefluidide (Case Number 2370, Docket ID Number EPA-HQ-2015-0786), and sabadilla alkaloids (Case Number 3128, Docket ID Number EPA-HQ-OPP-2015-0063) because the last U.S. registrations for these pesticides have been canceled.

Background on the registration review program is provided at: https://www.epa.gov/pesticide-reevaluation.

Authority: 7 U.S.C. 136 et seq.

Dated: October 19, 2022.
Mary Elissa Reaves,
Director, Pesticide Re-Evaluation Division, Office of Pesticide Programs.

[FR Doc. 2022-23210 Filed 10-24-22; 8:45 am]

BILLING CODE 6560-50-P